DEPARTMENT OF VETERANS AFFAIRS

[OMB Control No. 2900-0011]

Agency Information Collection Activity: Application for Reinstatement—Insurance Lapsed More Than 6 Months and Application for Reinstatement Non-Medical Comparative Health Statement

AGENCY: Veterans Benefits Administration, Department of Veterans Affairs.

ACTION: Notice.

SUMMARY: In compliance with the Paperwork Reduction Act (PRA) of 1995, this notice announces that the Veterans Benefits Administration, Department of Veterans Affairs, will submit the collection of information abstracted below to the Office of Management and Budget (OMB) for review and comment. The PRA submission describes the nature of the information collection and its expected cost and burden and it includes the actual data collection instrument.

DATES: Written comments and recommendations for the proposed information collection should be sent within 30 days of publication of this notice to www.reginfo.gov/public/do/PRAMain. Find this particular information collection by selecting “Currently under 30-day Review—Open for Public Comments” or by using the search function. Refer to “OMB Control No. 2900-0011.

FOR FURTHER INFORMATION CONTACT: Danny S. Green, (202) 421-1354 or email Danny.Green2@va.gov. Please refer to “OMB Control No. 2900-0011” in any correspondence.

SUPPLEMENTARY INFORMATION: Authority: Public Law 104-13; 44 U.S.C. 3501-3521.

Title: Application for Reinstatement—Insurance Lapsed More than 6 Months (VA Form 29-352) and Application for Reinstatement—Non-Medical Comparative Health Statement (VA Form 29-353).

OMB Control Number: 2900-0011.

Type of Review: Reinstatement of a currently approved collection.

Abstract: These forms are used by veterans who are requesting a reinstatement of their lapsed Insurance policies.

An agency may not conduct or sponsor, and a person is not required to respond to a collection of information unless it displays a currently valid OMB control number. The Federal Register Notice with a 60-day comment period soliciting comments on this collection of information was published at 85 FR 13091, on June 18, 2020, page 36936.

Affected Public: Individuals or households.

Estimated Annual Burden: 1,125 hours.

Estimated Average Burden per Respondent: 22.5 minutes.

Frequency of Response: One time.

Estimated Number of Respondents: 3,000.

By direction of the Secretary.
Danny S. Green,
VA Clearance Officer, Office of Quality, Performance and Risk, Department of Veterans Affairs.

[FR Doc. 2020-18323 Filed 8-20-20; 8:45 am]

BILLING CODE 8320-01-P